DEPARTMENT OF JUSTICE

Notice Lodging of Proposed Consent Decree Under the Clean Air Act

On September 28, 2012, the Department of Justice lodged a proposed Consent Decree with the United States District Court for the District of Puerto Rico in the lawsuit entitled United States v. Suiza Dairy Corporation, Civil Action No. 3:12-cv-01810.

The proposed Consent Decree memorializes a proposed settlement between the United States and Suiza Dairy Corporation, to resolve alleged violations of Section 112(r) of the Clean Air Act at dairies in Rio Piedras (the “Rio Piedras Facility”) and Aguadilla (the “Aguadilla Facility”), Puerto Rico.

The proposed settlement provides for Suiza to: (1) Implement over 40 compliance measures at each of the two dairies; (2) perform supplemental environmental projects (“SEPs”) that will significantly reduce the inventory of anhydrous ammonia at each facility, improve the monitoring and alarm system at the Aguadilla facility, and provide training and/or equipment to medical personnel for treatment of patients exposed to anhydrous ammonia; (3) pay a civil penalty of $275,000; and (4) conduct community emergency drills comprising the simulation of an emergency response to an anhydrous ammonia release. The injunctive relief, SEPs, and community emergency drills are collectively valued at approximately $3,750,000.

The publication of this notice opens a period for public comment on the Consent Decree. Comments should be addressed to the Assistant Attorney General, Environment and Natural Resources Division, and should refer to United States v. Suiza Dairy Corporation, D.J. Ref. No. 90-5-2-1-09774. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $11.25 (25 cents per page reproduction cost) payable to the United States Treasury.

Ronald G. Gluck,
Assistant Section Chief, Environmental Enforcement Section, Environment and Natural Resources Division.

[FR Doc. 2012-24816 Filed 10-9-12; 8:45 am]

BILLING CODE 4410-15-P